DEPARTMENT OF HOMELAND SECURITY

Federal Emergency Management Agency

[Docket ID: FEMA-2015-0029; OMB No. 1660-0141]

Agency Information Collection Activities: Proposed Collection; Comment Request; Controlled Equipment Request Form.

AGENCY: Federal Emergency Management Agency, DHS.

ACTION: Notice.

SUMMARY: The Federal Emergency Management Agency (FEMA), as part of its continuing effort to reduce paperwork and respondent burden, invites the general public and other Federal agencies to take this opportunity to comment on an extension, without change, of a currently approved information collection. In accordance with the Paperwork Reduction Act of 1995, this notice seeks comments concerning the collection of information from grant recipients requesting to purchase controlled equipment.

DATES: Comments must be submitted on or before July 25, 2016.

ADDRESSES: To avoid duplicate submissions to the docket, please use only one of the following means to submit comments:

(1) Online. Submit comments at www.regulations.gov under Docket ID FEMA-2015-0029. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Abigail Bordeaux, Management & Program Analyst, FEMA, Grant Programs Directorate, at (202) 786-0872. You may contact the Records Management Division for copies of the proposed collection of information at email address: FEMA-Information-Collections-Management@fema.dhs.gov.

SUPPLEMENTARY INFORMATION: This form was developed to collect required information as part of the implementation of Executive Order 13688: Federal Support for Local Law Enforcement Equipment Acquisition, issued January 16, 2015, which established a Prohibited Equipment List and a Controlled Equipment List and identified actions that can improve Federal support for the appropriate use, acquisition, and transfer of controlled equipment by state, local, tribal, territorial, and private grant recipients. One of the requirements of the report is to collect information on the grant recipient, their policies, training, record keeping, and detailed justification on why that type of requested information is needed. In considering the approach to implementing these recommendations, FEMA's Grant Programs Directorate worked hard to balance the requirement to collect the information, and the effort required by the grant recipients. The proposed form includes only fields required to comply with the recommendations (which were accepted by the President). The fillable nature of the form reduces the amount of time and effort required for grant recipients.

In accordance with Executive Order 13688: Federal Support for Local Law Enforcement Equipment Acquisition, and the Recommendations Pursuant to Executive Order 13688, all Federal equipment acquisition programs must require grant recipients that apply for controlled equipment to provide mandatory information in their application, including a detailed justification with a clear and persuasive explanation of the need for the controlled equipment, the availability of the requested controlled equipment to recipient in its inventory or through other means, certifications that appropriate protocols and training requirements have been adopted, evidence of the civilian governing body's review and approval or concurrence of the entity's acquisition of the requested controlled equipment, and whether the entity has been or is in violation of civil rights and other statutes, regulations, or programmatic terms. Ongoing coordination among the various Federal agencies will ensure that a uniform process is in place to assess the adequacy of the justification in each application. This coordination includes sharing of required information to prohibit duplication of grant funding for controlled equipment or potentially granting of funding for controlled equipment to an entity that has been sanctioned by another agency.

Collection of Information

Title: Controlled Equipment Request Form.

Type of Information Collection: Extension, without change, of a currently approved information collection.

OMB Number: 1660-0141.

FEMA Forms: FEMA Form 087-0-0-1, Controlled Equipment Request Form.

Abstract: This form was developed to collect required information as part of the implementation of Executive Order 13688: Federal Support for Local Law Enforcement Equipment Acquisition, issued January 16, 2015, which established a Prohibited Equipment List and a Controlled Equipment List and identified actions that can improve Federal support for the appropriate use, acquisition, and transfer of controlled equipment by state, local, tribal, territorial, and private grant recipients.

Affected Public: Business or other for-profit; State, Local, or Tribal Government.

Number of Respondents: 175.

Number of Responses: 175.

Estimated Total Annual Burden Hours: 131 hours.

Estimated Cost: The estimated annual cost to respondents for the hour burden is $3,877.60. There are no annual costs to respondents' operations and maintenance costs for technical services. There are no annual start-up or capital costs. The cost to the Federal Government is $759.40.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: May 18, 2016.
Richard W. Mattison,
Records Management Program Chief, Mission Support, Federal Emergency Management Agency, Department of Homeland Security.

[FR Doc. 2016-12179 Filed 5-23-16; 8:45 am]

BILLING CODE 9111-46-PA24MY3.